DEPARTMENT OF LABOR

Employment and Training Administration

[NAFTA-7622]

Eaton Corporation, Rochester Hills, MI; Notice of Termination of Investigation

Pursuant to Title V of the North American Free Trade Agreement Implementation Act (Pub. L. 103-182) concerning transitional adjustment assistance, hereinafter called NAFTA-TAA and in accordance with section 250(a), subchapter D, chapter 2, title II, of the Trade Act of 1974, as amended (19 U.S.C. 2331), an investigation was initiated on October 14, 2002 in response to a petition filed on behalf of workers at Eaton Corporation, Rochester Hills, Michigan.

The petitioners have requested that the petition be withdrawn. Consequently, the petition has been terminated.

Signed at Washington, DC, this 13th day of February, 2003.
Linda G. Poole,
Certifying Officer, Division of Trade Adjustment Assistance.

[FR Doc. 03-5413 Filed 3-6-03; 8:45 am]

BILLING CODE 4510-30-P